DEPARTMENT OF EDUCATION

34 CFR 694

Gaining Early Awareness and Readiness for Undergraduate Programs

AGENCY: Office of Postsecondary Education, Department of Education.

ACTION: Notice of proposed rulemaking.

SUMMARY: This document reopens the comment period for the proposed regulations for the Gaining Early Awareness and Readiness for Undergraduate Programs (GEAR UP) program. On December 21, 1999 we published in the Federal Register (64 FR 71551) a notice of proposed rulemaking (NPRM) proposing new regulations for the GEAR UP program. The deadline for comments on the proposed regulations was January 20, 2000. We are reopening the original 30-day comment period for the proposed regulations until February 10, 2000, because the comment period occurred in part over the holiday season.

DATES: We must receive your comments on or before February 10, 2000.

ADDRESSES: All comments concerning the proposed regulations should be addressed to: Rafael Ramirez, Acting Director, GEAR UP, U.S. Department of Education, 1990 K Street, NW., room 6107, Washington, DC 20006. If you prefer to send your comments through the Internet, use the following address: comments@ed.gov. You must include the term GEAR UP in the subject line of your electronic message.

FOR FURTHER INFORMATION CONTACT: David Condon, Telephone: (202) 502-7676. If you use a telecommunications device for the deaf (TDD), you may call the Federal Information Relay Service (FIRS) at 1-800-877-8339.

SUPPLEMENTARY INFORMATION: Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at any of the following sites:

http://ocfo.ed.gov/fedreg.htm

http://www.ed.gov/news.html

http://www.ed.gov/legislation/HEA/rulemaking

To use the PDF you must have the Adobe Acrobat Reader Program with Search, which is available free at the first of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO access at: http://www.access.gpo.gov/nara/index.html

(Catalog of Federal Domestic Assistance Number does not apply.)

Program Authority: 20 U.S.C. 404A

Dated: January 31, 2000.
A. Lee Fritschler,
Assistant Secretary for Postsecondary Education.

[FR Doc. 00-2601 Filed 2-4-00; 8:45 am]

BILLING CODE 4000-01-U